DEPARTMENT OF LABOR

Employment and Training Administration

[TA-W-59,727]

Eisenhart Wallcoverings; Hanover, PA; Notice of Termination of Investigation

Pursuant to section 221 of the Trade Act of 1974, as amended, an investigation was initiated on July 17, 2006, in response to a worker petition filed by the United Steelworkers of America on behalf of workers at Eisenhart Wallcoverings, Hanover, Pennsylvania.

The petitioner has requested that the petition be withdrawn. Consequently, the investigation has been terminated.

Signed at Washington, DC, this 3rd day of August, 2006.
Richard Church,
Certifying Officer, Division of Trade Adjustment Assistance.

[FR Doc. E6-14159 Filed 8-24-06; 8:45 am]

BILLING CODE 4510-30-P